ENVIRONMENTAL PROTECTION AGENCY

[FRL-7083-1]

Agency Information Collection Activities: Submission for OMB Review; Comment Request, General Administration Request for Assistance Program Lobbying & Litigation Certification Amendment

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: General Administration Request for Assistance Programs (Lobbying & Litigation Certification Amendment), OMB Control Number 2030-0020, expiration date of December 31, 2002. The ICR describes the nature of the information collection and its expected burden and cost; where appropriate, it includes the actual data collection instrument.

DATES: Comments must be submitted on or before November 14, 2001.

ADDRESSES: Send comments, referencing EPA ICR Number 0938.08 and OMB Control Number 2030-0020, to the following addresses: Susan Auby, U.S. Environmental Protection Agency, Collection Strategies Division (Mail Code 2822), 1200 Pennsylvania Avenue, N.W., Washington, DC 20460-0001; and to Office of Information and Regulatory Affairs, Office of Management and Budget (OMB), Attention: Desk Officer for EPA, 725 17th Street, N.W., Washington, DC 20503.

FOR FURTHER INFORMATION CONTACT: For a copy of the ICR contact Susan Auby at EPA by phone at (202) 260-4901, by E-mail at Auby.susan@epamail.epa.gov, or download off the Internet at http://www.epa.gov/icr and refer to EPA ICR Number 0938.08. For technical questions about the ICR contact Pamela Luttner in the Office of Grants & Debarment at (202) 564-1902 or E-mail at www.luttner.pamela@epamail.epa.gov.

SUPPLEMENTARY INFORMATION: Title: General Administration Request for Assistance Programs (Lobbying & Litigation Certification Amendment), OMB Control Number 2030-0020, EPA ICR Number 0938.08, expiring December 31, 2002. This is a request to amend the existing approved collection.

Abstract: Public Law 106-377, section 424 of the FY 2001 VA, HUD and Independent Agencies Appropriations Act (Appropriations Act) requires “A chief executive officer of any entity receiving funds under this Act shall certify that none of the funds have been used to engage in the lobbying of the Federal Government or in litigation against the United States unless authorized by law.” Public Law 106-74, section 426 of the FY 2000 Appropriations Act contains a similar provision. These provisions impose additional information collection requirements on EPA assistance agreements and thus necessitate an amendment to the existing ICR.

The sole purpose of the certification is to validate that a chief executive officer of any entity receiving EPA assistance funds has certified that none of the funds were used in lobbying the Federal Government or in litigation against the United States. The certification will consist of a one-paragraph form that will be signed by a chief executive officer. It will normally be submitted with the final Financial Status Report. Recipients with multiple awards may choose to submit one certification covering all their awards on an annual basis.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 29, 2001, (66 FR 29125); no comments were received.

Burden Statement: The annual public reporting and record keeping burden for this collection of information is estimated to be five minutes per response. Burden means the total time, effort, or financial resources expended by persons to generate, maintain, retain, or disclose or provide information to or for a Federal agency. This includes the time needed to review instructions; develop, acquire, install and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Not-for-profit institutions, educational institutions, state, local or tribal governments.

Estimated Number of Respondents: 2000.

Frequency of Response: Once per project.

Estimated Total Annual Hour Burden: 166.

Estimated Total Annualized Capital, O&M Cost Burden: $0.

Send comments on the Agency's need for this information, the accuracy of the provided burden estimates, and any suggested methods for minimizing respondent burden, including through the use of automated collection techniques to the addresses listed above. Please refer to EPA ICR Number 0938.08 and OMB Control Number 2030-0020 in any correspondence.

Dated: October 5, 2001.
Oscar Morales,
Director, Collection Strategies Division.

[FR Doc. 01-25896 Filed 10-12-01; 8:45 am]

BILLING CODE 6560-50-P